DEPARTMENT OF LABOR

Employment and Training Administration

Notice of a Virtual Meeting of the Task Force on Apprenticeship Expansion

AGENCY: Employment and Training Administration (ETA), Labor.

ACTION: Notice.

SUMMARY: Pursuant to the Federal Advisory Committee Act (FACA) and its implementing regulations, notice is hereby given to announce a virtual meeting of the Task Force on Apprenticeship Expansion on Tuesday, February 6, 2018. The Task Force will convene its second meeting virtually; information on how to access this meeting is provided below and will be prominently posted on the Task Force's homepage: https://www.dol.gov/apprenticeship/task-force.htm. The Task Force is a FACA committee established by Presidential Executive Order that is charged with identifying strategies and proposals to promote and expand apprenticeships, especially in sectors where apprenticeship programs are insufficient. The Task Force is solely advisory in nature, and will consider reports, comments, research, evidence, and existing practices as appropriate to develop recommendations for inclusion in its final report to the President. A virtual meeting of the Task Force provides cost savings to the government while still offering a venue that allows for public participation and transparency, as required by FACA. To achieve its mission, the Task Force will likely convene four meetings between February and May 2018; two meetings will convene virtually and two meetings will convene in person.

DATES: The meeting will begin at approximately 1:00 p.m. Eastern Standard Time on Tuesday, February 6, 2018, and adjourn at approximately 3:00 p.m. Eastern Standard Time.

ADDRESSES: The meeting will convene virtually. Any updates to the agenda and meeting logistics will be posted on the Task Force homepage at: https://www.dol.gov/apprenticeship/task-force.htm.

FOR FURTHER INFORMATION CONTACT: Ms. Diane A. Jones, Senior Policy Advisor to the Secretary, U.S. Department of Labor, 200 Constitution Avenue NW, Washington, DC 20210, Telephone: (202) 693-2700 (this is not a toll-free number).

SUPPLEMENTARY INFORMATION:

I. Virtual Meeting Log-In Instructions

In order to promote openness and increase public participation, webinar and audio conference technology will be used throughout the meeting. Webinar and audio instructions will be prominently posted on the Task Force homepage at: https://www.dol.gov/apprenticeship/task-force.htm.

II. Task Force Meeting Schedule

The Task Force is charged with identifying strategies and proposals to promote apprenticeships, especially in sectors where apprenticeship programs are insufficient. Upon completion of its work, the Task Force shall submit to the President of the United States a final report detailing these strategies and proposals. To achieve its mission, the Task Force will likely convene four meetings between February and May 2018. The remaining meeting dates for the 2018 calendar year will be posted on the Task Force homepage and subsequent Federal Register Notices will be published.

III. Task Force Subcommittees

Pursuant to the Executive Order and the Task Force Charter, the final report must specifically address the following four topics: (1) Federal initiatives to promote apprenticeships; (2) administrative and legislative reforms that would facilitate the formation and success of apprenticeship programs; (3) the most effective strategies for creating industry-recognized apprenticeships; and (4) the most effective strategies for amplifying and encouraging private-sector initiatives to promote apprenticeships. In order to accomplish this goal, Secretary R. Alexander Acosta established the following four subcommittees.

1. Expanding Access, Equity and Career Awareness Subcommittee

2. Administrative and Regulatory Strategies to Expand Apprenticeship Subcommittee

3. Attracting Business to Apprenticeship Subcommittee

4. Education and Credentialing Subcommittee

Interested parties can obtain further meeting details and subcommittee descriptions on the Task Force website: https://www.dol.gov/apprenticeship/task-force.htm.

Notice of Intent to Attend the Meeting and Submission of a Written Statement:

Interested members of the public must register for the virtual Task Force meeting by Thursday, January 25, 2018, via the public registration website using the following link: https://secure.thegateam.com/dol-aetf-reg/. Additionally, individuals with special needs and/or disabilities that will require special accommodations should send an email to Apprenticeshiptaskforce@dol.gov with the subject line “Special Accommodations for the February 2018 Virtual Task Force Meeting” no later than Thursday, January 25, 2018.

The tentative agenda for this meeting includes the following:

• Updates Since November 2017 Meeting

• Overview and Status Report on the Work of the Subcommittees

• Taking Apprenticeship to Scale

• Next Meeting and Next Steps

Also in the interest of increasing public participation, any member of the public who wishes to provide a written statement should send it via electronic mail to Apprenticeshiptaskforce@dol.gov, subject line “Public Comment February 2018 Virtual Task Force Meeting.” The agenda and meeting logistics may be updated between the time of this publication and the scheduled date of the Task Force meeting. All meeting updates will be posted to the Task Force website: https://www.dol.gov/apprenticeship/task-force.htm.

Rosemary Lahasky,
Deputy Assistant Secretary for the Employment and Training Administration.

[FR Doc. 2018-00565 Filed 1-12-18; 8:45 am]

BILLING CODE 4510-FR-P